DEPARTMENT OF COMMERCE

National Oceanic and Atmospheric Administration

Evaluation of State Coastal Management Programs and National Estuarine Research Reserves

AGENCY: Office for Coastal Management (OCM), National Ocean Service (NOS), National Oceanic and Atmospheric Administration (NOAA), Department of Commerce (DOC).

ACTION: Notice.

SUMMARY: The National Oceanic and Atmospheric Administration (NOAA), Office for Coastal Management will hold three public meetings to solicit comments on the performance evaluation of the U.S. Virgin Islands Coastal Management Program. Notice is also hereby given of the availability of the final evaluation findings for the Oregon and Alabama Coastal Management Programs and Tijuana River National Estuarine Research Reserve.

DATES: U.S. Virgin Islands Coastal Management Program Evaluation: The public meetings will be held on August 29, August 30, and August 31, 2017, and written comments must be received on or before September 8, 2017.

For specific dates, times, and locations of the public meetings, see SUPPLEMENTARY INFORMATION.

ADDRESSES: You may submit comments on the coastal program or reserve NOAA intends to evaluate by any of the following methods:

Public Meeting and Oral Comments: Public meetings will be held on St. Thomas, St. Croix, and St. John. For the specific location, see SUPPLEMENTARY INFORMATION.

Written Comments: Please direct written comments to Susie Holst, Evaluator, NOAA Office for Coastal Management, 35 Colovos Road, University of New Hampshire, Gregg Hall, Room 142, Durham, New Hampshire 03824, or email comments Susie.Holst@noaa.gov.

FOR FURTHER INFORMATION CONTACT: Susie Holst, Evaluator, NOAA Office for Coastal Management, 35 Colovos Road, University of New Hampshire, Gregg Hall, Room 142, Durham, New Hampshire 03824, (603) 862-1205 or Susie.Holst@noaa.gov. Copies of the previous evaluation findings may be viewed and downloaded on the Internet at http://coast.noaa.gov/czm/evaluations. A copy of the evaluation notification letter and most recent progress report may be obtained upon request by contacting the person identified under FOR FURTHER INFORMATION CONTACT.

SUPPLEMENTARY INFORMATION: Section 312 of the Coastal Zone Management Act (CZMA) requires NOAA to conduct periodic evaluations of federally approved state and territorial coastal programs. The process includes one or more public meetings, consideration of written public comments and consultations with interested Federal, state, and local agencies and members of the public. During the evaluation, NOAA will consider the extent to which the state has met the national objectives, adhered to the management program approved by the Secretary of Commerce, and adhered to the terms of financial assistance under the CZMA. When the evaluation is completed, NOAA's Office for Coastal Management will place a notice in the Federal Register announcing the availability of the Final Evaluation Findings.

Specific information on the periodic evaluation of the state and territorial coastal program that is the subject of this notice is detailed below as follows:

U.S. Virgin Islands Coastal Management Program Evaluation

You may participate or submit oral comments at the public meeting scheduled as follows:

Date: August 29, 2017.

Time: 6:00 p.m., local time.

Location: Cyril E. King Airport Terminal Building, Second Floor, Department of Planning and Natural Resources Conference Room, 8100 Lindberg Bay, St. Thomas.

Date: August 30, 2017.

Time: 6:00 p.m., local time.

Location: St. Croix Curriculum Center, 3 Vicorps Land, Kingshill, St. Croix.

Date: August 31, 2017.

Time: 6:00 p.m., local time.

Location: St. John Legislature Conference Room, 18-15 Estate Enighed, Cruz Bay, St. John.

Written public comments must be received on or before September 8, 2017.

Availability of Final Evaluation Findings of Other State and Territorial Coastal Programs

The NOAA Office for Coastal Management has completed review of the Coastal Zone Management Program evaluations for the states of Oregon and Alabama. Both states were found to be implementing and enforcing their federally approved coastal management programs, addressing the national coastal management objectives identified in CZMA Section 303(2)(A)-(K), and adhering to the programmatic terms of their financial assistance awards.

The NOAA Office for Coastal Management has completed review of the National Estuarine Research Reserve evaluation for the Tijuana River reserve and the reserve was found to be adhering to programmatic requirements of the National Estuarine Research Reserve System. Copies of the final evaluation findings may be downloaded at http://coast.noaa.gov/czm/evaluations/evaluation_findings/index.html or by submitting a written request to the person identified under FOR FURTHER INFORMATION CONTACT.

Federal Domestic Assistance Catalog 11.419, Coastal Zone Management Program Administration.

Dated: June 29, 2017.
Paul M. Scholz,
Deputy Director, Office for Coastal Management, National Ocean Service, National Oceanic and Atmospheric Administration.

[FR Doc. 2017-14488 Filed 7-10-17; 8:45 am]

BILLING CODE 3510-08-P